DEPARTMENT OF THE INTERIOR

Bureau of Indian Affairs

Draft Environmental Impact Statement for the Proposed Pueblo of Jemez 70.277-Acre Fee-to-Trust Transfer and Casino Project, Doña Ana County, NM

AGENCY: Bureau of Indian Affairs, Interior.

ACTION: Notice.

SUMMARY: This notice announces that the Bureau of Indian Affairs (BIA) as lead agency, in cooperation with the Pueblo of Jemez, intends to cancel all work on an Environmental Impact Statement (EIS) for the BIA Federal action of approving a 70.277 acre fee-to-trust transfer and casino project located within Doña Ana County, New Mexico.

DATES: This cancellation is effective October 2, 2012.

FOR FURTHER INFORMATION CONTACT: William Walker, Regional Director, (505) 563-3103 or Priscilla Wade, Regional Environmental Protection Specialist, (505) 563-3417, Bureau of Indian Affairs, Southwest Regional Office, 1001 Indian School Road NW., Albuquerque, New Mexico 87104.

SUPPLEMENTARY INFORMATION: The BIA is canceling work on the EIS because the Department of the Interior has denied the application to take the land into trust on September 1, 2011. The Notice of Intent to prepare the Draft EIS, which included a description of the proposed action, was published in the Federal Register on March 1, 2005 (70 FR 9963-9964). A public scoping meeting was held on March 16, 2005 and a public hearing was held on April 4, 2011; both were held in Anthony, New Mexico. The Notice of Availability of the Draft EIS was published in the Federal Register on April 8, 2011 (76 FR 19783-19784). A Final EIS for this project has not been completed.

Authority

This notice is published pursuant to section 1503.1 of the Council of Environmental Quality Regulations (40 CFR parts 1500 through 1508) and Department of the Interior Regulations (43 CFR part 46), implementing the procedural requirements of the National Environmental Policy Act of 1969, as amended (42 U.S.C. 4371 et seq.), and is in the exercise of authority delegated to the Assistant Secretary—Indian Affairs by 209 DM 8.

Dated: September 20, 2012.
Donald E. Laverdure,
Acting Assistant Secretary—Indian Affairs.

[FR Doc. 2012-24267 Filed 10-1-12; 8:45 am]

BILLING CODE 4310-W7-P